DEPARTMENT OF STATE

[Public Notice 9084]

Advisory Committee on International Economic Policy Notice of Charter Renewal

The Department of State has renewed the Charter of the Advisory Committee on International Economic Policy. The Committee serves in a solely advisory capacity concerning major issues and problems in international economic policy. The Committee provides information and advice on the effective integration of economic interests into overall foreign policy and on the Department of State's role in advancing U.S. economic and commercial interests in a competitive global economy. The Committee also appraises the role and limits of international economic institutions and advises on the formulation of U.S. economic policy and positions.

This Committee includes representatives of U.S. organizations and institutions having an interest in international economic policy, including representatives of U.S. business, state and local government, labor unions, public interest groups, and trade and professional associations.

For further information, please call Gregory Maggio, Office of Economic Policy Analysis and Public Diplomacy, Bureau of Economic and Business Affairs, U.S. Department of State, at (202) 647-2231.

Dated: March 20, 2015.
Gregory F. Maggio.
Designated Federal Officer, Bureau of Economic and Business Affairs, U.S. Department of State.

[FR Doc. 2015-07949 Filed 4-6-15; 8:45 am]

BILLING CODE CODE 4710-07-P